DEPARTMENT OF LABOR

Veterans' Employment and Training Service

The Advisory Committee on Veterans' Employment, Training and Employer Outreach (ACVETEO); Notice of Cancellation of Open Meeting

AGENCY: U.S. Department of Labor.

ACTION: Notice.

SUMMARY: The business meeting of the Advisory Committee on Veterans' Employment, Training and Employer Outreach (ACVETEO) scheduled for teleconference on Friday, December 3, 2010 from 2 to 3:30 p.m., has been cancelled. This meeting was announced in the Federal Register of November 4, 2010 at 75 FR 68007.

FOR FURTHER INFORMATION CONTACT: Gregory Green (202) 693-4734

Signed in Washington, DC, this 19th day of November 2010.
John M. McWilliam,
Deputy Assistant Secretary, Veterans' Employment and Training Service.

[FR Doc. 2010-29746 Filed 11-24-10; 8:45 am]

BILLING CODE 4510-79-P